SECURITIES AND EXCHANGE COMMISSION

[File No. 500-1]

Planetgood Technologies, Inc (n/k/a All American Coffee & Beverage, Inc.), Platronics, Inc., Plus Solutions, Inc., Portacom Wireless, Inc., Prime Holdings & Investments, Inc., Pro-After, Inc. (f/k/a PurchasePro.Com, Inc.), Project Group, Inc., ProLong International Corp., PSS, Inc., and Purus, Inc.; Order of Suspension of Trading

October 27, 2009.

It appears to the Securities and Exchange Commission that there is a lack of current and accurate information concerning the securities of Planetgood Technologies, Inc. (n/k/a All American Coffee & Beverage, Inc.) because it has not filed any periodic reports since the period ended September 30, 2000.

It appears to the Securities and Exchange Commission that there is a lack of current and accurate information concerning the securities of Platronics, Inc. because it has not filed any periodic reports since the period ended June 30, 1999.

It appears to the Securities and Exchange Commission that there is a lack of current and accurate information concerning the securities of Plus Solutions, Inc. because it has not filed any periodic reports since the period ended September 30, 2001.

It appears to the Securities and Exchange Commission that there is a lack of current and accurate information concerning the securities of Portacom Wireless, Inc. because it has not filed any periodic reports since the period ended September 30, 1998.

It appears to the Securities and Exchange Commission that there is a lack of current and accurate information concerning the securities of Prime Holdings & Investments, Inc. because it has not filed any periodic reports since the period ended September 30, 2004.

It appears to the Securities and Exchange Commission that there is a lack of current and accurate information concerning the securities of Pro-After, Inc. (f/k/a PurchasePro.Com, Inc.) because it has not filed any periodic reports since the period ended March 31, 2002.

It appears to the Securities and Exchange Commission that there is a lack of current and accurate information concerning the securities of Project Group, Inc. because it has not filed any periodic reports since the period ended September 30, 2004.

It appears to the Securities and Exchange Commission that there is a lack of current and accurate information concerning the securities of ProLong International Corp. because it has not filed any periodic reports since the period ended September 30, 2005.

It appears to the Securities and Exchange Commission that there is a lack of current and accurate information concerning the securities of PSS, Inc. because it has not filed any periodic reports since the period ended November 2, 2002.

It appears to the Securities and Exchange Commission that there is a lack of current and accurate information concerning the securities of Purus, Inc. because it has not filed any periodic reports since October 2, 1999.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on October 27, 2009, through 11:59 p.m. EST on November 9, 2009.

By the Commission.
Elizabeth M. Murphy,
Secretary.

[FR Doc. E9-26158 Filed 10-27-09; 11:15 am]

BILLING CODE 8011-01-P